NATIONAL FOUNDATION ON THE ARTS AND THE HUMANITIES

Meetings of Humanities Panel

AGENCY: National Endowment for the Humanities.

ACTION: Notice of meetings.

SUMMARY: The National Endowment for the Humanities will hold seventeen meetings of the Humanities Panel, a federal advisory committee, during August, 2015. The purpose of the meetings is for panel review, discussion, evaluation, and recommendation of applications for financial assistance under the National Foundation on the Arts and Humanities Act of 1965.

DATES: See Supplementary Information section for meeting dates.

ADDRESSES: The meetings will be held at Constitution Center at 400 7th Street SW., Washington, DC 20506. See Supplementary Information for meeting room numbers.

FOR FURTHER INFORMATION CONTACT: Lisette Voyatzis, Committee Management Officer, 400 7th Street SW., Room, 4060, Washington, DC 20506; (202) 606-8322; evoyatzis@neh.gov. Hearing-impaired individuals who prefer to contact us by phone may use NEH's TDD terminal at (202) 606-8282.

SUPPLEMENTARY INFORMATION: Pursuant to section 10(a)(2) of the Federal Advisory Committee Act (5 U.S.C. App.), notice is hereby given of the following meetings:

1. Date: August 03, 2015.

Time: 8:30 a.m. to 5:00 p.m.

Room: P002.

This meeting will discuss applications on the subject of Asian Studies for Fellowships for University Teachers, submitted to the Division of Research Programs.

2. Date: August 04, 2014.

Time: 8:30 a.m. to 5:00 p.m.

Room: P002.

This meeting will discuss applications on the subjects of Anthropology and New World Archaeology for Fellowships for University Teachers, submitted to the Division of Research Programs.

3. Date: August 04, 2014.

Time: 8:30 a.m. to 5:00 p.m.

Room: P003.

This meeting will discuss applications on the subject of American Literature for Fellowships for University Teachers, submitted to the Division of Research Programs.

4. Date: August 05, 2014.

Time: 8:30 a.m. to 5:00 p.m.

Room: P002.

This meeting will discuss applications on the subjects of Romance Literature and Studies for Fellowships for University Teachers, submitted to the Division of Research Programs.

5. Date: August 05, 2014.

Time: 8:30 a.m. to 5:00 p.m.

Room: P003.

This meeting will discuss applications on the subject of Asian Studies for Fellowships for University Teachers, submitted to the Division of Research Programs.

6. Date: August 06, 2014.

Time: 8:30 a.m. to 5:00 p.m.

Room: P002.

This meeting will discuss applications on the subject of European History for Fellowships for University Teachers, submitted to the Division of Research Programs.

7. Date: August 06, 2014.

Time: 8:30 a.m. to 5:00 p.m.

Room: P003.

This meeting will discuss applications on the subject of European History for Fellowships for University Teachers, submitted to the Division of Research Programs.

8. Date: August 10, 2014.

Time: 8:30 a.m. to 5:00 p.m.

Room: P002.

This meeting will discuss applications on the subjects of African and Middle Eastern Studies for Fellowships for University Teachers, submitted to the Division of Research Programs.

9. Date: August 11, 2014.

Time: 8:30 a.m. to 5:00 p.m.

Room: P002.

This meeting will discuss applications on the subject of Latin American Studies for Fellowships for University Teachers, submitted to the Division of Research Programs.

10. Date: August 11, 2014.

Time: 8:30 a.m. to 5:00 p.m.

Room: P003.

This meeting will discuss applications on the subject of Latin American Studies for Fellowships for University Teachers, submitted to the Division of Research Programs.

11. Date: August 11, 2014.

Time: 8:30 a.m. to 5:00 p.m.

Room: 2002.

This meeting will discuss applications for the Humanities Open Book grant program, submitted to the Office of Digital Humanities.

12. Date: August 12, 2014.

Time: 8:30 a.m. to 5:00 p.m.

Room: P002.

This meeting will discuss applications on the subjects of Ethnomusicology and Anthropology for Fellowships for University Teachers, submitted to the Division of Research Programs.

13. Date: August 12, 2014.

Time: 8:30 a.m. to 5:00 p.m.

Room: P003.

This meeting will discuss applications on the subjects of Medieval and Renaissance Studies for Fellowships for University Teachers, submitted to the Division of Research Programs.

14. Date: August 13, 2014.

Time: 8:30 a.m. to 5:00 p.m.

Room: P002.

This meeting will discuss applications on the subject of American History for Fellowships for University Teachers, submitted to the Division of Research Programs.

15. Date: August 13, 2014.

Time: 8:30 a.m. to 5:00 p.m.

Room: P003.

This meeting will discuss applications on the subject of American Studies for Fellowships for University Teachers, submitted to the Division of Research Programs.

16. Date: August 14, 2014.

Time: 8:30 a.m. to 5:00 p.m.

Room: Education Team Room.

This meeting will discuss applications on the subjects of Social Sciences and the History of Science for Fellowships for University Teachers, submitted to the Division of Research Programs.

17. Date: August 27, 2014.

Time: 8:30 a.m. to 5:00 p.m.

Room: 4002.

This meeting will discuss applications for the Preservation and Access Education and Training grant program, submitted to the Division of Preservation and Access.

Because these meetings will include review of personal and/or proprietary financial and commercial information given in confidence to the agency by grant applicants, the meetings will be closed to the public pursuant to sections 552b(c)(4) and 552b(c)(6) of Title 5, U.S.C., as amended. I have made this determination pursuant to the authority granted me by the Chairman's Delegation of Authority to Close Advisory Committee Meetings dated July 19, 1993.

Dated: July 8, 2015.
Elizabeth Voyatzis,
Committee Management Officer.

[FR Doc. 2015-17555 Filed 7-16-15; 8:45 am]

BILLING CODE 7536-01-P